DEPARTMENT OF ENERGY

Federal Energy Regulatory Commission

[Docket No. CP02-4-000]

Northwest Pipeline Corporation; Notice of Site Visit

December 26, 2001.

On January 8-10, 2002, the staff of the Office of Energy Projects (OEP) will conduct a site visit of Northwest Pipeline Corporation's (NWP) Evergreen Pipeline Project in Skagit, King, Pierce, Whatcom, Snohomish, and Lewis Counties, Washington. The site visit will start at the following dates and locations:

January 8—Sedro-Woolley Loop. Meet outside of 3-Rivers Inn Restaurant, 211 Central Ave, Sedro-Woolley, WA at 10:45 a.m.

January 9—Mt. Vernon Loop. Meet outside of 3-Rivers Inn Restaurant, 211 Central Ave, Sedro-Woolley, WA at 8 a.m.

January 10—Auburn Loop. Meet in Pepper Tree Inn Lobby, 401 8th Street S.W., Auburn, WA at 8 a.m.

Covington Loop. Meet at the Timberlane Homeowners Association, 26612-192 Ave, S.E., Covington, WA at 12:15 p.m.

Representatives of NWP will accompany the OEP staff.

All interested parties may attend. Those planning to attend must provide their own transportation. For schedule changes and updates, contact the Commission's Office of External Affairs at (202) 208-1088.

Linwood A. Watson, Jr.,
Acting Sectretary.

[FR Doc. 01-32180 Filed 12-31-01; 8:45 am]

BILLING CODE 6717-01-P